DEPARTMENT OF COMMERCE

Foreign-Trade Zones Board

[B-15-2025]

Foreign-Trade Zone (FTZ) 43, Notification of Proposed Production Activity; Pfizer, Inc.; (Pharmaceutical Intermediate Product); Kalamazoo, Michigan

Pfizer, Inc. (Pfizer) submitted a notification of proposed production activity to the FTZ Board (the Board) for its facilities in Kalamazoo, Michigan within Subzone 43E. The notification conforming to the requirements of the Board's regulations (15 CFR 400.22) was received on March 10, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product and material/component would be added to the production authority that the Board previously approved for the operation, as reflected on the Board's website.

The proposed finished product is phthalimido lactol (pharmaceutical intermediate product) (duty rate—6.5%).

The proposed foreign-status material/component is 3 phthalimidopropionaldehyde (3-PPA) (duty rate—6.5%). The request indicates that 3-PPA is subject to duties under section 1702(a)(1)(B) of the International Emergency Economic Powers Act (section 1702) and section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is April 28, 2025.

A copy of the notification will be available for public inspection in the “Online FTZ Information System” section of the Board's website.

For further information, contact Diane Finver at Diane.Finver@trade.gov.

Dated: March 11, 2025.
Elizabeth Whiteman,
Executive Secretary.

[FR Doc. 2025-04257 Filed 3-14-25; 8:45 am]

BILLING CODE 3510-DS-P